DEPARTMENT OF HEALTH AND HUMAN SERVICES

Office of the Secretary

White House Commission on Complementary and Alternative Medicine Policy; Notice of Meeting

Pursuant to Section 10(d) of the Federal Advisory Committee Act, as amended (5 U.S.C. Appendix 2), notice is given of a meeting of the White House Commission on Complementary and Alternative Medicine Policy.

The purpose of the meeting is to convene the Commission for a public hearing to receive public testimony for individuals and organizations interested in the subject of Federal policy regarding complementary and alternative medicine. The major focus of the meeting is on the education, training, and licensing and credentialing of all health care practitioners engaged in the delivery of complementary and alternative medicine (CAM) practices and products. Comments received at the meeting may be used by the Commission to prepare the Report to the President as required by the Executive Order.

Comments should focus on the education and training of health care practitioners in complementary and alternative medicine. Invited speaker discussions include the following: Establishing CAM educational and training programs; Continuing CAM education and training; Assuring quality and accountability in CAM practice; and Credentialing and licensing of CAM practice. The discussion also may focus on the following questions:

(1) Can uniform standards of education, training, licensing, and certification be applied to all practitioners?

(2) What training and education should be required of all practitioners to assure access to safe and effective CAM practices and products?

(3) What sources of funds exist for the education and training of all practitioners delivery of CAM practices and products?

(4) Are performance standards or practice guidelines needed to assure the public will have access to the full range of safe and effective CAM practices and products?

Some Commission members may participate by telephone conference. Opportunities for oral statements by the public will be provided on February 23, from about 4 p.m.-5:30 p.m. (Time approximate).

Name of Committee: The White House Commission on Complementary and Alternative Medicine Policy.

Date: February 22—23, 2001.

Time: February 22—8:15 a.m.-5:45 p.m. February 23—8:15 a.m.-5:30 p.m.

Place: Hubert H. Humphrey Building, Room 800, 200 Independence Avenue, SW., Washington, DC 20201.

Contact Persons: Michele M. Chang, CMT, MPH, Executive Secretary, or, Stephen C. Groft, Pharm.D., Executive Director, 6701 Rockledge Drive, Room 1010, MSC 7707, Bethesda, MD 20817-7707, Phone: (301) 435-7592, Fax: (301) 480-1691, E-mail: WHCCAMP@mail.nih.gov.

Because of the need to obtain the views of the public on these issues as soon as possible and because of the early deadline for the report required of the Commission, this notice is being provided at the earliest possible time.

SUPPLEMENTARY INFORMATION: The President established the White House Commission on Complementary and Alternative Medicine Policy on March 7, 2000, by Executive Order 13147. The mission of the White House Commission on Complementary and Alternative Medicine Policy is to provide a report, through the Secretary of the Department of Health and Human Services, on legislative and administrative recommendations for assuring that public policy maximizes the benefits of complementary and alternative medicine to Americans.

Public Participation

The meeting is open to the public with attendance limited by the availability of space on a first come first serve basis. Members of the public who wish to present oral comment may register no later than February 19, 2001, by completing the on-line registration form at the Commission's website or faxing a request to 301-480-1691. Additional information, including agenda item topics, for the meeting can be found on the website of the Commission at http://whccamp.hhs.gov.

Oral comments will be limited to three minutes. Individuals who register to speak will be assigned in the order in which they registered. Due to time constraints, only one representative from each organization will be allotted time for oral testimony. The number of speakers and the time allotted may also be limited by the number of registrants. All requests to register should include the name, address, telephone number, and business or professional affiliation of the interested party, and should indicate the area of interest or question (as described above) to be addressed.

Any person attending the meeting who has not registered to speak in advance of the meeting will be allowed to make a brief oral statement during the time set aside for public comment if time permits, and at the Chairperson's discretion. Individuals unable to attend the meeting, or any interested parties, may send written comments by mail, fax, or electronically to the staff office of the Commission for inclusion in the public record.

When mailing or faxing written comments provide, if possible, an electronic version on diskette. Persons needing special assistance, such as sign language interpretation or other special accommodations, should contact the Commission staff at the address or telephone number listed no later than February 16, 2001.

Dated: February 8, 2001.
LaVerne Y. Stringfield,
Director, Office of Federal Advisory Committee Policy.

[FR Doc. 01-3815 Filed 2-14-01; 8:45 am]

BILLING CODE 4140-01-M